DEPARTMENT OF COMMERCE

Census Bureau

Agency Information Collection Activities; Submission to the Office of Management and Budget (OMB) for Review and Approval; Comment Request; Construction Progress Reporting Survey

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed extension of the Construction Progress Reporting Survey, prior to the submission of the information collection request (ICR) to OMB for approval.

DATES: To ensure consideration, comments regarding this proposed information collection must be received on or before October 26, 2021.

ADDRESSES: Interested persons are invited to submit written comments by email to Thomas.J.Smith@census.gov. Please reference the Construction Progress Reporting Survey in the subject line of your comments. You may also submit comments, identified by Docket Number USBC-2021-0022, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Aidan Smith, Assistant Division Chief, Construction Indicator Programs, Economic Indicators Division, U.S. Census Bureau, 301-763-2972 or via email at Aidan.D.Smith@census.gov.

SUPPLEMENTARY INFORMATION:

I. Abstract

The Census Bureau plans to request an extension of a currently approved collection for forms C-700, C-700(R), C-700(SL), and C-700(F). These forms are used to conduct the Construction Progress Reporting Surveys (CPRS) and collect information on the dollar value of construction put in place. Form C-700, for Private Construction Projects, collects construction put in place data for nonresidential projects owned by private companies or individuals. Form C-700(R), for Multifamily Residential Projects, collects construction put in place data for private multifamily residential buildings. Form C-700(SL), for State and Local Government Projects, collects construction put in place data for state and local government projects. Form C-700(F), for Federal Government Projects, collects construction put in place data for federal government projects.

The Census Bureau uses the information from these surveys to publish the value of construction put in place for the monthly `Construction Spending' principal economic indicator. Published estimates are used by a variety of private businesses and trade associations to estimate the demand for building materials and to schedule production, distribution, and sales efforts. They also provide various government agencies with a tool to evaluate economic policy. For example, Bureau of Economic Analysis staff use data to develop the construction components of gross private domestic investment in the gross domestic product. The Federal Reserve Board and the Department of the Treasury use the value in place data to predict the gross domestic product, which is presented to the Board of Governors and has an impact on monetary policy.

There are currently no planned content changes to the questionnaires.

II. Method of Collection

An independent systematic sample of construction projects is selected each month according to predetermined sample rates. Once a project is selected, it remains in the sample until completion. For the preliminary mailing, preprinted forms are mailed to respondents. After the preliminary mailing, respondents have the option to report online. Respondents that consistently report electronically, receive email notifications and reminders to complete the online survey. Nonrespondents are later called by a Census interviewer and are asked to report data over the phone. Interviews are scheduled at the convenience of the respondent, which further reduces their burden. Respondents having their information available from an internal database at the time of the interview greatly helps reduce the time spent on the phone.

III. Data

OMB Control Number: 0607-0153.

Form Number(s): C-700, C-700(R), C-700(SL), C-700(F).

Type of Review: Regular submission, Request for an Extension, without Change, of a Currently Approved Collection.

Affected Public: Individuals, Businesses or Other for Profit, Not-for-Profit Institutions, Small Businesses or Organizations, State and Local Governments and the Federal Government.

Estimated Number of Respondents:

C-700 = 6,200

C-700(R) = 2,500

C-700(SL) = 11,800

C-700(F) = 1,500

Total = 22,000

Estimated Time per Response: 30 minutes for the first month; 10 minutes for subsequent months. We estimate, on average, that projects remain in sample for 12 months.

Estimated Total Annual Burden Hours: 51,333.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C. 131 and 182.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-18531 Filed 8-26-21; 8:45 am]

BILLING CODE 3510-07-P